DEPARTMENT OF JUSTICE

Notice of Consent Judgments Pursuant to the Comprehensive Environmental Response, Compensation and Liability Act

In accordance with Departmental Policy, 28 CFR 50.7, 38 FR 19029, and 42 U.S.C. 9622(d), notice is hereby given that a proposed consent decree in United States v. Alcolac, Inc., et al., Civ. No. 01-4097 (AJL), DOJ #90-11-3-06297, was lodged in the United States District Court for the District of New Jersey on August 28, 2001. The consent decree partially resolves the liability of seventy-eight (78) defendants under Section 107(a) of the Comprehensive Environmental Response, Compensation and Liability Act (“CERCLA”), 42 U.S.C. 9607(a), relating to the PJP Superfund Site located in Jersey City, New Jersey (the “Site”).

Under the proposed consent decree, the settling defendants will pay the sum of $233,000 toward reimbursement of the United States' past response costs for the Site in return for a covenant not to sue for past response costs.

The Department of Justice will receive, for a period of thirty (30) days from the date of this publication, written comments relating to the proposed consent decree. Comments should be addressed to the Assistant Attorney General for the Environment and Natural Resources Division, Department of Justice, Washington, D.C. 20530, and should refer to United States v. Alcolac, Inc. et al., DOJ #90-11-3-06297. The proposed consent decree may be examined at the Office of the United States Attorney, District of New Jersey, 970 Broad Street, Room 502, Newark, New Jersey 07102; and at the Region II Office of the U.S. Environmental Protection Agency, 290 Broadway, New York, New York 10278. Copies of the consent decree may be obtained by mail from the Consent Decree Library, United States Department of Justice, PO Box 7611 Ben Franklin Station, Washington, DC 20044. In requesting a copy of the consent decree, please enclose a check in the amount of $28.50 (25 cents per page reproduction costs) payable to the Consent Decree Library.

Ronald Gluck,
Assistant Section Chief, Environmental Enforcement Section, Environment and Natural Resources Division.

[FR Doc. 01-23365 Filed 9-19-01; 8:45 am]

BILLING CODE 4410-15-M